DEPARTMENT OF HEALTH AND HUMAN SERVICES

Centers for Disease Control and Prevention

Healthcare Infection Control Practices Advisory Committee (HICPAC)

Correction: This notice was published in the Federal Register on February 25, 2016, Volume 81, Number 37, Page 9477. The meeting time and date should read as follows:

9:00 a.m.-6:00 p.m., EDT, March 31, 2016

Contact Person for More Information: Erin Stone, M.S., Division of Healthcare Quality Promotion, National Center for Emerging and Zoonotic Infectious Diseases, CDC, 1600 Clifton Road NE., Mailstop A-07, Atlanta, Georgia 30333; Telephone (404) 639-4045, Email: hicpac@cdc.gov

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2016-06027 Filed 3-16-16; 8:45 am]

BILLING CODE 4163-18-P